DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than March 2, 2015.

Interested persons are invited to submit written comments regarding the subject matter of the investigations to the Director, Office of Trade Adjustment Assistance, at the address shown below, not later than March 2, 2015.

The petitions filed in this case are available for inspection at the Office of the Director, Office of Trade Adjustment Assistance, Employment and Training Administration, U.S. Department of Labor, Room N-5428, 200 Constitution Avenue NW., Washington, DC 20210.

Signed at Washington, DC, this 5th day of February 2015.
Michael W. Jaffe,
Certifying Officer, Office of Trade Adjustment Assistance.

Appendix

34 TAA Petitions Instituted Between 1/20/15 and 1/30/15
TA-W | Subject firm (petitioners) | Location | Date of institution | Date of petition
85767 | Gerresheimer Glass (Workers) | Millville, NJ | 01/20/15 | 01/18/15
85768 | Mallinckrodt Pharmaceuticals (Union) | St. Louis, MO | 01/20/15 | 01/18/15
85769 | Rural Metro Ambulance (Union) | Salem, OR | 01/20/15 | 01/16/15
85770 | PACAL Industries LLC (Union) | La Crosse, WI | 01/20/15 | 01/16/15
85771 | Eastman Kodak Company (Workers) | Rochester, NY | 01/20/15 | 01/19/15
85772 | Bank of America (State/One-Stop) | Dallas, TX | 01/21/15 | 01/20/15
85773 | Johnson Controls—GWS (Workers) | Holland, MI | 01/21/15 | 01/20/15
85774 | Logistics Resources, Inc. (State/One-Stop) | Wichita, KS | 01/21/15 | 01/20/15
85775 | Laredo Petroleum, Inc. (State/One-Stop) | Farmers Branch, TX | 01/21/15 | 01/20/15
85776 | Raven Industries (State/One-Stop) | Earth City, MS | 01/21/15 | 01/20/15
85777 | Scottsdale Lincoln Health Network (Workers) | Scottsdale, AZ | 01/21/15 | 01/19/15
85778 | Yokohama Tire Manufacturing Virginia (Company) | Salem, VA | 01/22/15 | 01/21/15
85779 | Brayton International (Company) | High Point, NC | 01/22/15 | 01/21/15
85780 | LSI (Avago Technologies) (State/One-Stop) | Allentown, PA | 01/22/15 | 01/21/15
85781 | Asahi/America Inc. (State/One-Stop) | Lawrence, MA | 01/23/15 | 01/22/15
85782 | Flight Line Products LLC (State/One-Stop) | Valencia, CA | 01/23/15 | 01/22/15
85783 | Heraeus Electro-Nite (Company) | Ellwood City, PA | 01/23/15 | 01/22/15
85784 | Power Products, LLC (Company) | Menomonee Falls, WI | 01/23/15 | 01/22/15
85785 | Trim Masters Inc (Company) | Nicholasville, KY | 01/23/15 | 01/22/15
85786 | Boomerang Tube LLC (State/One-Stop) | Liberty, TX | 01/23/15 | 01/22/15
85787 | Pacer Technology (State/One-Stop) | Rancho Cucamonga, CA | 01/23/15 | 01/22/15
85788 | Valspar Engineered Polymer Solutions (incl. 701 Shiloh Rd., Garland, TX) (State/One-Stop) | Garland, TX | 01/23/15 | 01/22/15
85789 | Mastercraft Furniture, Inc (State/One-Stop) | Stayton, OR | 01/26/15 | 01/23/15
85790 | Corsa Coal (formerly PBS/Rox Coal) (Workers) | Friedens, PA | 01/27/15 | 01/26/15
85791 | Ivesco/Division of MWI (Workers) | Warsaw, NC | 01/27/15 | 01/07/15
85792 | Southern California Edison (Company) | Rosemead/Irwindale, CA | 01/27/15 | 01/15/15
85793 | Dreamworks (State/One-Stop) | Redwood City, CA | 01/28/15 | 01/27/15
85794 | L. Weyant Trucking (State/One-Stop) | Central City, PA | 01/28/15 | 01/27/15
85795 | Tenaris Hickman (State/One-Stop) | Blytheville, AR | 01/28/15 | 01/27/15
85796 | U.S. Steel Tubular Products, Inc. (State/One-Stop) | Lone Star, TX | 01/28/15 | 01/27/15
85797 | Revett Mining Co—Troy Mine (Company) | Troy, MT | 01/28/15 | 01/27/15
85798 | Windsor Foods (Workers) | Bloomsburg, PA | 01/28/15 | 01/27/15
85799 | Comprehensive Logistics (State/One-Stop) | Lansing, MI | 01/29/15 | 01/28/15
85800 | COM DEV USA, LLC (Company) | El Segundo, CA | 01/29/15 | 01/28/15

[FR Doc. 2015-03305 Filed 2-17-15; 8:45 am]

BILLING CODE 4510-FN-P